DEPARTMENT OF JUSTICE

Antitrust Division

Notice Pursuant to The National Cooperative Research and Production Act of 1993—Information Warfare Research Project Consortium

Notice is hereby given that, on November 10, 2021, pursuant to Section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, HaloTech Solutions LLC, Charlotte, NC; Northeast Information Discovery, Inc., Canastota, NY; NewSat North America LLC, Indian Harbour Beach, FL; Panasonic Corporation of North America, Newark, NJ; Radiance Technologies, Inc., Huntsville, AL; Virginia Polytechnic Institute and State University, Blacksburg, VA; XSB, Inc., Setauket, NY; G3 Technologies, Inc., Columbia, MD; IoTAI, Inc., Fremont, CA; Hayes Group International LLC, Washington, DC; Raytheon Intelligence & Space, Indianapolis, IN; Simulation Technologies, Inc., Huntsville, AL; Tetrad Digital Integrity LLC, Washington, DC; Unified Experience LLC, Mount Pleasant, SC; Liberty Business Associates LLC, Ladson, SC; RMA Associates, Arlington, VA; Google LLC, Mountain View, CA; Jacobs Technology, Tullahoma, TN; RedShred LLC, Baltimore, MD; Render Security Engineering LLC, Lexington Park, MD; and Trenton Systems, Lawrenceville, GA have been added as parties to this venture.

Also, Knowledge Vortex, Inc., Madison, AL; Intrinsic Enterprises, Inc., Newcastle, WA; Kriaanet, Inc., Quantico, VA; Pi Radio, Inc., Brooklyn, NY; Hawks Nest Solutions, Inc. dba Marjau Systems Corporation, Tampa, FL; and Key Cyber Solutions LLC, Richmond, VA have withdrawn from this venture.

No other changes have been made in either the membership or planned activity of the group research project. Membership in this group research project remains open, and IWRP intends to file additional written notifications disclosing all changes in membership.

On October 15, 2018, IWRP filed its original notification pursuant to Section 6(a) of the Act. The Department of Justice published a notice in the Federal Register pursuant to Section 6(b) of the Act on October 23, 2018 (83 FR 53499).

The last notification was filed with the Department on July 15, 2021. A notice was published in the Federal Register pursuant to Section 6(b) of the Act on August 23, 2021 (86 FR 47155).

Suzanne Morris,
Chief, Premerger and Division Statistics, Antitrust Division.

[FR Doc. 2021-27748 Filed 12-21-21; 8:45 am]

BILLING CODE P